SMALL BUSINESS ADMINISTRATION

[Disaster Declaration #14419 and #14420]

KENTUCKY Disaster Number KY-00058

AGENCY: U.S. Small Business Administration.

ACTION: Amendment 2.

SUMMARY: This is an amendment of the Presidential declaration of a major disaster for the Commonwealth of KENTUCKY (FEMA-4239-DR), dated 08/12/2015.

Incident: Severe Storms, Tornadoes, Straight-line Winds, Flooding, Landslides, and Mudslides.

Incident Period: 07/11/2015 through 07/20/2015.

Effective Date: 09/16/2015.

Physical Loan Application Deadline Date: 10/12/2015.

EIDL Loan Application Deadline Date: 05/12/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the Commonwealth of KENTUCKY, dated 08/12/2015 is hereby amended to include the following areas as adversely affected by the disaster:

Primary Counties: (Physical Damage and Economic Injury Loans): Leslie.

Contiguous Counties: (Economic Injury Loans Only):

Kentucky: Bell.

All other information in the original declaration remains unchanged.

(Catalog of Federal Domestic Assistance Numbers 59002 and 59008)

James E. Rivera,
Associate Administrator for Disaster Assistance.

[FR Doc. 2015-24069 Filed 9-21-15; 8:45 am]

BILLING CODE 8025-01-P